DEPARTMENT OF ENERGY

Federal Energy Regulatory Commission

[Docket No. CP07-427-000]

PetroLogistics Natural Gas Storage, LLC; Notice of Availability of the Environmental Assessment for the Proposed Petrologistics Gas Storage Project

January 4, 2008.

The staff of the Federal Energy Regulatory Commission (FERC or Commission) has prepared an environmental assessment (EA) for the natural gas pipeline facilities proposed to be constructed by PetroLogistics Natural Gas Storage, LLC (PetroLogistics) in the above-referenced docket.

The EA was prepared to satisfy the requirements of the National Environmental Policy Act of 1969. The staff concludes that approval of the proposed project, with appropriate mitigating measures, would not constitute a major Federal action significantly affecting the quality of the human environment.

The EA assesses the potential environmental effects of constructing and operating:

• One 20,000-horsepower electric compressor station on a 2-acre site;

• One 350-foot-long 24-inch-diameter interconnect pipeline;

• 7.3 miles of 24-inch-diameter natural gas header pipeline connecting the compressor station and the Florida Gas Transmission Company (FGT), CrossTex LIG Pipeline Company (Crosstex)/Bridgeline Pipeline System (Bridgeline) and Texas Eastern Transmission Company (TETCO) interconnects;

• 5.83 miles of 16-inch-diameter interconnect pipeline from the Bridgeline/CrossTex tie-in to the Southern Natural Gas Company (SONAT) pipeline interconnect;

• A 0.60-mile-long TETCO 16-inch-diameter lateral from near the terminus of the 24-inch-diameter header pipeline to the TETCO Lateral Meter Station;

• Five meter stations/interconnects (FGT, Bridgeline, Crosstex, TETCO and SONAT Meter Stations) and two mainline valves; and

• The recasing of the existing non-jurisdictional Well No. 25.

The purpose of the proposed project is to build and operate a high-deliverability, multi-cycle natural gas storage facility and appurtenant facilities in an existing brine cavern within the Choctaw Salt Dome located 4 miles northwest of the City of Plaquemine, Louisiana.

The EA has been placed in the public files of the FERC. A limited number of copies of the EA are available for distribution and public inspection at: Federal Energy Regulatory Commission, Public Reference Room, 888 First Street, NE., Room 2A, Washington, DC 20426, (202) 502-8371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Kimberly D. Bose, Secretary, Federal Energy Regulatory Commission, 888 First St., NE., Room 1A, Washington, DC 20426;

• Label one copy of the comments for the attention of the Gas Branch 2, PJ11.2.

• Reference Docket No. CP07-427-000; and

• Mail your comments so that they will be received in Washington, DC on or before February 5, 2008.

Please note that the Commission strongly encourages the electronic filing (“eFiling”) of comments. Instructions on how to “eFile” comments can be found on the Commission's Web site at http://www.ferc.gov under the “Documents and Filings” link.

Comments will be considered by the Commission but will not serve to make the commentor a party to the proceeding. Any person seeking to become a party to the proceeding must file a motion to intervene pursuant to Rule 214 of the Commission's Rules of Practice and Procedures (18 CFR 385.214). Anyone may intervene in this proceeding based on this Draft EA. Only intervenors have the right to seek rehearing of the Commission's decision. You must file your request to intervene as specified above.¹ You do not need intervenor status to have your comments considered.

¹ Interventions may also be filed electronically via the Internet in lieu of paper. See the previous discussion on filing comments electronically.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you too keep track of all formal issuances and submittals in specific dockets. This can reduce the amount of time you spend researching proceedings by automatically providing you with notification of these filings, document summaries and direct links to the documents. To learn more about eSubscription and to sign-up for this service please go to http://www.ferc.gov/esubscribenow.htm.

Kimberly D. Bose,
Secretary.

[FR Doc. E8-396 Filed 1-11-08; 8:45 am]

BILLING CODE 6717-01-P